ENVIRONMENTAL PROTECTION AGENCY

40 CFR Part 80

Regulation of Fuels and Fuel Additives

CFR Correction

In Title 40 of the Code of Federal Regulations, Parts 72 to 80, revised as of July 1, 2014, on page 711, in § 80.75, remove the first introductory paragraph, including the bold text at the end of the paragraph: “Reporting requirements”.

[FR Doc. 2014-30464 Filed 12-24-14; 8:45 am]

BILLING CODE 1505-01-D